DEPARTMENT OF AGRICULTURE

Forest Service

National Advisory Committee for Implementation of the National Forest System Land Management Planning Rule

AGENCY: Forest Service, USDA.

ACTION: Notice of intent to renew an advisory committee.

SUMMARY: The Secretary of Agriculture intends to renew the National Advisory Committee for Implementation of the National Forest System Land Management Planning Rule (Committee). In accordance with provisions of the Federal Advisory Committee Act (FACA), the Committee is being renewed to continue providing advice and recommendations on the implementation of the National Forest System Land Management Planning Rule (Planning Rule). The Committee is currently deliberating and formulating advice for the Secretary on the Proposed Planning Rule Directives. The Committee is necessary and in the public interest.

FOR FURTHER INFORMATION CONTACT: Tony Tooke, U.S. Department of Agriculture, Forest Service, National Forest System, Ecosystem Management Coordination; telephone: 202-205-0830 or email: ttooke@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Background

In accordance with the provisions of the Federal Advisory Committee Act (FACA), as amended (5 U.S.C. App. 2), the Secretary of Agriculture intends to renew the National Advisory Committee for Implementation of the National Forest System Land Management Planning Rule. The Committee is a discretionary advisory committee. The Committee operates under the provisions of FACA and will report to the Secretary of Agriculture through the Chief of the Forest Service.

The purpose of the Committee is to provide advice and recommendations on implementation of the planning rule. The Committee will be asked to perform the following duties or other requests made by the Secretary of Agriculture or the Chief of the Forest Service:

1. Review the content of and provide recommendations on directives related to implementation of the planning rule;

2. Offer recommendations on implementation of the planning rule, based on lessons learned and best practices from on-going or completed assessments, revisions, and monitoring strategies;

3. Offer recommendations on new best practices that could be implemented based on lessons learned;

4. Offer recommendations for consistent interpretation of the rule where ambiguities cause difficulty in implementation of the rule;

5. Offer recommendations for effective ongoing monitoring and evaluation, including broadscale monitoring, for implementation of the planning rule;

6. Offer recommendations on how to foster an effective ongoing collaborative framework to ensure engagement of Federal, State, local and Tribal governments; private organizations and affected interests; the scientific community; and other stakeholders; and

7. Offer recommendations for integrating the land management planning process with landscape scale restoration activities through implementation of the planning rule.

Advisory Committee Organization

This Committee is currently comprised of 21 members who provide balanced and broad representation within each of the following three categories of interests:

1. Up to 7 members who represent one or more of the following:

a. Represent the affected public at-large

b. Hold State-elected office (or designee)

c. Hold county or local elected office

d. Represent American Indian Tribes

e. Represent Youth

2. Up to 7 members who represent one or more of the following:

a. National, regional, or local environmental organizations

b. Conservation organizations or watershed associations

c. Dispersed recreation interests

d. Archaeological or historical interests

e. Scientific Community

3. Up to 7 members who represent one or more of the following:

a. Timber Industry

b. Grazing or other land use permit holders or other private forest landowners

c. Energy and mineral development

d. Commercial or recreational hunting and fishing interests

e. Developed outdoor recreation, off-highway vehicle users, or commercial recreation interests

No individual who is currently registered as a Federal lobbyist is eligible to serve as a member of the Committee. Members of the Committee serve without compensation, but may be reimbursed for travel expenses while performing duties on behalf of the Committee, subject to approval by the DFO.

The Committee meets three to six times annually or as often as necessary and at such times as designated by the Designated Federal Official (DFO).

The appointment of members to the Committee was made by the Secretary of Agriculture. Further information about the Committee is posted on the Planning Rule Advisory Committee Web site: http://www.fs.usda.gov/main/planningrule/committee.

Equal opportunity practices in accordance with U.S. Department of Agriculture (USDA) policies will be followed in all appointments to the committee. To ensure that the recommendations of the Committee have taken into account the needs of the diverse groups served by USDA, membership includes to the extent possible, individuals with demonstrated ability to represent minorities, women, and persons with disabilities.

Dated: January 17, 2014.
Gregory L. Parham,
Assistant Secretary for Administration.

[FR Doc. 2014-02113 Filed 1-31-14; 8:45 am]

BILLING CODE 3411-15-P